DEPARTMENT OF COMMERCE

National Oceanic and Atmospheric Administration

[RTID 0648-XC126]

Marine Mammals; File No. 20648

AGENCY: National Marine Fisheries Service (NMFS), National Oceanic and Atmospheric Administration (NOAA), Commerce.

ACTION: Notice; receipt of application for permit amendment.

SUMMARY: Notice is hereby given that Heidi Pearson, Ph.D., University of Alaska—Southeast, 11120 Glacier Hwy, AND1, Juneau, Alaska 99801, has applied for an amendment to Scientific Research Permit No. 20648-01.

DATES: Written, telefaxed, or email comments must be received on or before August 11, 2022.

ADDRESSES: The application and related documents are available for review by selecting “Records Open for Public Comment” from the “Features” box on the Applications and Permits for Protected Species (APPS) home page, https://apps.nmfs.noaa.gov, and then selecting File No. 20648 from the list of available applications. These documents are also available upon written request via email to NMFS.Pr1Comments@noaa.gov.

Written comments on this application should be submitted via email to NMFS.Pr1Comments@noaa.gov. Please include File No. 20648 in the subject line of the email comment.

Those individuals requesting a public hearing should submit a written request via email to NMFS.Pr1Comments@noaa.gov. The request should set forth the specific reasons why a hearing on this application would be appropriate.

FOR FURTHER INFORMATION CONTACT: Courtney Smith, Ph.D., or Carrie Hubard, (301) 427-8401.

SUPPLEMENTARY INFORMATION: The subject amendment to Permit No. 20648 is requested under the authority of the Marine Mammal Protection Act of 1972, as amended (16 U.S.C. 1361 et seq.), the regulations governing the taking and importing of marine mammals (50 CFR part 216), the Endangered Species Act of 1973, as amended (16 U.S.C. 1531 et seq.), and the regulations governing the taking, importing, and exporting of endangered and threatened species (50 CFR parts 222-226).

Permit No. 20648, issued on June 14, 2019 (84 FR 27767), authorizes the permit holder to conduct vessel-based and unmanned aerial surveys on the following species: fin (Balaenoptera physalus), humpback (Megaptera novaeangliae; range-wide including those from the endangered Mexico Distinct Population Segment), gray (Eschrichtius robustus), killer (Orcinus orca); minke (Balaenoptera acutorostrata), and sperm (Physeter macrocephalus) whales, Dall's (Hocoenoides dalli) and harbor porpoises (Phocoena phocoena), and Pacific white-sided dolphins (Lagenorhynchus obliquidens). Researchers may use the following methods on all or some of the above listed species: observation, photographic identification, photogrammetry, passive acoustic recording, tagging (suction-cup), remote biopsy and other biological sampling (breath/exhaled air, fecal, swabbed and sloughed skin), and sonar for prey mapping. A minor amendment to the permit, which increased the number of takes per animal from two to four, was issued on September 18, 2020. The permit holder is requesting the permit be amended to increase the number of annual biopsy takes of humpback whales authorized from 50 to 75, with a maximum of four biopsy samples per year from the same animal. Samples would be collected a minimum of 30 days apart. No changes to the permitted objectives, methods, or locations are proposed. The permit expires on June 1, 2024.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: July 6, 2022.
Julia M. Harrison,
Chief, Permits and Conservation Division, Office of Protected Resources, National Marine Fisheries Service.

[FR Doc. 2022-14751 Filed 7-11-22; 8:45 am]

BILLING CODE 3510-22-P